ENVIRONMENTAL PROTECTION AGENCY

[FRL-6894-5]

Clean Water Act Class II: Proposed Administrative Penalty Assessment and Opportunity to Comment Regarding Sharpe and Associates, and Palisades Development Company

AGENCY: Environmental Protection Agency (“EPA”).

ACTION: Notice.

SUMMARY: EPA is providing notice of a proposed administrative penalty assessment for alleged violations of the Clean Water Act (“Act”). EPA is also providing notice of opportunity to comment on the proposed assessment.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who without authorization discharges a pollutant to a navigable water, or who has violated the conditions of a National Pollutant Discharge Elimination System permit, as those terms are defined in section 502 of the Act, 33 U.S.C. 1362, may be assessed a penalty in a “Class II” administrative penalty proceeding.

Class II proceedings under section 309(g) are conducted in accordance with the “Consolidated Rules of Practice Governing the Administrative Assessment of Civil Penalties, Issuance of Compliance or Corrective Action Orders, and the Revocation, Termination or Suspension of Permits,” 40 CFR part 22 (“Consolidated Rules”), published at 64 FR 40138, 40177 (July 23, 1999). The procedures through which the public may submit written comment on a proposed Class II order or participate in a Class II proceeding, and the procedures by which a respondent may request a hearing, are set forth in the Consolidated Rules. The deadline for submitting public comment on a proposed Class II order is thirty (30) days after publication of this notice.

On September 29, 2000, EPA commenced the following Class II proceeding for the assessment of penalties by filing with Danielle Carr, Regional Hearing Clerk, U.S. EPA, Region IX, 75 Hawthorne Street, San Francisco, California 94105, (415) 744-1391, the following Complaint:

In the Matter of Sharpe and Associates, and Palisades Development Company, Oro Valley, Arizona, Docket No. CWA-09-2000-0013.

The Complaint proposes a penalty of up to One Hundred Thirty Seven Thousand, Five Hundred Dollars ($137,500) for violations of NPDES Permit No. AZR100000, the reissued NPDES Permit No. AZR10*### and Section 301(a) of the Act, 33 U.S.C. 1311(a), at the Catalina Shadows Development Phase 4, Oro Valley, Arizona.

The Complainant in this action is EPA Region IX.

Complainant's address is: EPA Region IX, Attn: Hugh Barroll (ORC2), 75 Hawthorne St., San Francisco, CA 94105.

Respondents in this action are Sharpe and Associates and Palisades Development Company.

Respondents addresses are:

Sharpe and Associates, Inc., 4780 Rocky Crest Place, Tucson, AZ 85750

Palisades Development Company, Attn: Sidney Y. Kohn, 1200 N. El Dorado Place, Suite H-810, Tucson, AZ 85715

Procedures by which the public may comment on a proposed Class II penalty or participate in a Class II penalty proceeding are set forth in the Consolidated Rules. The deadline for submitting public comment on a proposed Class II penalty is thirty days after issuance of public notice. The Regional Administrator of EPA, Region 9 may issue an order upon default if the respondent in the proceeding fails to file a response within the time period specified in the Consolidated Rules.

FOR FURTHER INFORMATION: Persons wishing to receive a copy of EPA's Consolidated Rules, review the Complaint or other documents filed in this proceeding, comment upon the proposed assessment, or otherwise participate in the proceeding should contact Danielle Carr, Regional Hearing Clerk, U.S. EPA, Region IX, 75 Hawthorne Street, San Francisco, California 94105, (415) 744-1391. The administrative record for this proceeding is located in the EPA Regional Office identified above, and the file will be open for public inspection during normal business hours. All information submitted by Sharpe and Associates, and Palisades Development Company is available as part of the administrative record, subject to provisions of law restricting public disclosure of confidential information. In order to provide opportunity for public comment, EPA will issue no final order assessing a penalty in these proceedings prior to thirty (30) days after the date of publication of this notice.

Dated: October 24, 2000.
Mike Schulz,
Acting Director, Water Division.

[FR Doc. 00-28276 Filed 11-2-00; 8:45 am]

BILLING CODE 5650-50-P